DEPARTMENT OF LABOR

Employment and Training Administration

[TA-W-36,113]

Twin Ridge Corporation, Acton, Maine; Notice of Termination of Certification

This notice terminates the Certification Regarding Eligibility to Apply For Worker Adjustment Assistance issued by the Department on July 6, 1999, for all workers of Twin Ridge Corporation, Acton, Maine, engaged in employment related to the production of apples. The notice was published in the Federal Register on August 11, 1999 (64 FR 43724).

On its own motion, the Department reviewed the certification issued for workers of the subject firm. The petition filed April 26, 1999, was filed on behalf of apple packers at Twin Ridge Corporation, Acton, Maine. Review of the duties performed by the worker group reveals that the workers provided a service and did not produce an article within the meaning of Section 222 of the Trade Act.

Since there are no adversely affected workers of the subject firm, the continuation of the certification would serve no purpose and the certification has been terminated.

Signed at Washington, DC, this 28th day of August 2000.
Edward A. Tomchick,
Director, Division of Trade Adjustment Assistance.

[FR Doc. 00-23935 Filed 9-15-00; 8:45 am]

BILLING CODE 4510-30-M